DEPARTMENT OF HOMELAND SECURITY

Federal Emergency Management Agency

[Docket ID FEMA-2009-0001]

Agency Information Collection Activities: Proposed Collection; Comment Request, 1660-NEW; FEMA Preparedness Grants: Buffer Zone Protection Program (BZPP)

AGENCY: Federal Emergency Management Agency, DHS.

ACTION: Notice; 60-day notice and request for comments; new information collection; OMB No. 1660-NEW; FEMA Form 089-23, Buffer Zone Plan; FEMA Form 089-23A, Vulnerability Reduction Purchasing Plan.

SUMMARY: The Federal Emergency Management Agency, as part of its continuing effort to reduce paperwork and respondent burden, invites the general public and other Federal agencies to take this opportunity to comment on a proposed new information collection. In accordance with the Paperwork Reduction Act of 1995, this Notice seeks comments concerning the information collection process for the Buffer Zone Protection Program grant.

DATES: Comments must be submitted on or before January 19, 2010.

ADDRESSES: To avoid duplicate submissions to the docket, please use only one of the following means to submit comments:

(1) Online. Submit comments at www.regulations.gov under docket ID FEMA-2009-0001. Follow the instructions for submitting comments.

(2) Mail. Submit written comments to Office of Chief Counsel, Regulation and Policy Team, DHS/FEMA, 500 C Street, SW., Room 835, Wash, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Stacey Street, Program Analyst, Grant Programs Directorate, 202-786-9728 for additional information. You may contact the Records Management Branch for copies of the proposed collection of information at facsimile number (202) 646-3347 or e-mail address: FEMA-Information-Collections@dhs.gov.

SUPPLEMENTARY INFORMATION: The Buffer Zone Protection Program (BZPP) is an important part of the Administration's larger, coordinated effort— known as the Federal Investment Strategy— to strengthen homeland security preparedness, including the security of America's Critical Infrastructure and Key Resources (CIKR), including chemical facilities, financial institutions, nuclear and electric power plants, dams, stadiums, and other high-risk/high-consequence facilities. The Consolidated Security, Disaster Assistance, and Continuing Appropriations Act, 2009 (Pub. L. 110-329) established the BZPP to help strengthen the Nation's critical infrastructure against risks associated with potential terrorist attacks.

Collection of Information

Title: FEMA Preparedness Grants: Buffer Zone Protection Program (BZPP).

Type of Information Collection: New information collection.

OMB Number: 1660-NEW.

Form Titles and Numbers: FEMA Form 089-23, Buffer Zone Plan; FEMA Form 089-23A, Vulnerability Reduction Purchasing Plan.

Abstract: The information collection activity is the collection of financial and programmatic information from States and local governments pertaining to grant and cooperative agreement awards that include application, program narrative statement, grant award, performance information, outlay reports, property management, and closeout information. The information enables FEMA to evaluate applications and make award decisions, monitor ongoing performance and manage the flow of federal funds, and to appropriately close out grants or cooperative agreements. The Buffer Zone Plan is a narrative plan that includes an assessment of possible infrastructure security risks and documents the degree to which security processes and procedures are in place, including planning to enhance and/or improve site security and the actions jurisdictions undertake in their BZP to protect against or prevent terrorist attacks at critical infrastructure and key resources (CIKR). The Vulnerability Reduction Purchasing Plan is a plan applicants prepare that corresponds to the Buffer Zone Plan and lists procurement items including equipment, information technology, and other resources such as training, that are needed to improve or enhance a jurisdiction's preventive or protective posture around critical infrastructure and key resources (CIKR) sites identified in the BZP.

Affected Public: State, Local or Tribal Government.

Estimated Total Annual Burden Hours: 4,000 Hours.

Annual Hour Burden
Type of respondent | Form name/form number | No. of respondents | No. of responses per respondent | Total no. of responses | Avg. burden per response (in hours) | Total annual burden (in hours) | Avg. hourly wage rate* | Total annual respondent cost
State, Local or Tribal Government | Buffer Zone Plan/FEMA Form 089-23 | 250 | 1 | 250 | 8 | 2,000 | $36.15 | $72,300.00
State, Local or Tribal Government | Vulnerability Reduction Purchasing Plan/FEMA Form 089-23A | 250 | 1 | 250 | 8 | 2,000 | $36.15 | $72,300.00
Total |  |  |  | 728 |  | 4,000 |  | $144,600.00

Estimated Cost: There is no annual reporting or recordkeeping costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27550 Filed 11-16-09; 8:45 am]

BILLING CODE 9111-78-P